ENVIRONMENTAL PROTECTION AGENCY

[ER-FRL-8582-8]

Environmental Impact Statements; Notice of Availability

Responsible Agency: Office of Federal Activities, General Information (202) 564-7167 or http://www.epa.gov/compliance/nepa/.

Weekly receipt of Environmental Impact Statements

Filed 06/09/2008 through 06/13/2008

Pursuant to 40 CFR 1506.9.

EIS No. 20080234, Draft EIS, AFS, WA, Dosewallips Road Washout Project, to Reestablish Road Access to both Forest Service Road (FSR) 2610 and Dosewallips Road, Hood Canal Ranger District Olympic National Forest, Olympic National Park, Jefferson County, WA, Comment Period Ends: 08/19/2008, Contact: Tim Davis 360-956-2375.

EIS No. 20080235, Final Supplement, NOA, AK, Cook Inlet Beluga Whale Subsistence Harvest Project, Proposes to Implement a Long-Term Harvest Plan and Fulfill the Federal Government's Trust Responsibility, Cook Inlet, AK, Wait Period Ends: 07/21/2008, Contact: Robert D Mecum 907-586-7235.

EIS No. 20080236, Final EIS, BIA, WA, Spokane Tribes Integrated Resource Management Plan (IRMP) for the Spokane Indian Reservation, Implementation, Stevens County, WA, Wait Period Ends: 07/21/2008, Contact: Donna Smith 509-258-4561.

EIS No. 20080237, Draft EIS, NPS, SD, Wind Cave National Park Project, Elk General Management Plan, Implementation, Custer County, SD, Comment Period Ends: 08/18/2008, Contact: Nick Chevance 402-661-1844.

EIS No. 20080238, Draft EIS, AFS, WY, Off-Highway Vehicle (OHV) Route Designation Project, Proposing to Improve Management of Public Summer Motorized Use (May 1-November 30) by Designating Roads and Motorized Trails, Bridger-Teton National Forest, Buffalo, Jackson and Big Piney Ranger Districts, Teton, Lincoln and Sublette Counties, WY, Comment Period Ends: 08/04/2008, Contact: Linda Merigliano 307-739-5428.

EIS No. 20080239, Draft Supplement, UAF, MA, Pave Paws Early Warning Radar Operation Project, Continued Operation of the Solid-State Phased-Array Radar System (SSPARS), also known as Pave, Phased Array Warning Systems (PAWS), Cape Cod Air Force Station, MA, Comment Period Ends: 08/04/2008, Contact: Lynne Neuman 719-554-6406.

EIS No. 20080240, Draft EIS, DOA, 00, PROGRAMMATIC—Geothermal Leasing in the Western United States, Comment Period Ends: 09/17/2008, Contact: Jack G. Peterson 208-373-4048.

Department of the Interior/Bureau of Land Management and Department of Agriculture/Forest Service's are Joint Lead Agencies for the above project. The contact person for (BLM) is Jack G. Peterson at 208-373-4048 and the contact person for (AFS) is Tracy Parker at 703-605-4796.

Amended Notices

EIS No. 20080125, Draft EIS, FHW, NC, I-26 Connector Project, Proposed Multi-Land Freeway from I-40 to US19-23-70 North of Asheville, Funding, U.S. Coast Guard Permit, U.S. Army COE section 10 and 404 Permit, Buncombe County, Asheville, NC, Comment Period Ends: 06/23/2008, Contact: John F. Sullivan III, P.E. 919-856-4346 Ext. 122.

Revision of FR Notice Published 04/11/2008: Extending Comment from 05/19/2008 to 06/23/2008.

EIS No. 20080186, Draft EIS, FAA, NV, City of Mesquite, Proposed Replacement General Aviation Airport, Implementation, Clark County, NV, Comment Period Ends: 07/18/2008, Contact: Barry Franklin 650-876-2778.

Revision to FR Notice Publish 05/16/2008: Extending Comment from 07/03/2008 to 07/18/2008.

Dated: June 17, 2008.
Robert W. Hargrove,
Director, NEPA Compliance Division, Office of Federal Activities.

[FR Doc. E8-14005 Filed 6-19-08; 8:45 am]

BILLING CODE 6560-50-P